DEPARTMENT OF ENERGY

Federal Energy Regulatory Commission

[Docket Nos. AD19-20-000 and ER02-2001-000]

Electric Quarterly Report Users Group Meeting and Electric Quarterly Reports

On September 17, 2019, the Federal Energy Regulatory Commission (Commission) issued a notice that Commission staff will hold an Electric Quarterly Report (EQR) Users Group meeting on December 4, 2019. The meeting will take place from 1:00 p.m. to 5:00 p.m. (EST) in the Commission Meeting Room at 888 First Street NE, Washington, DC 20426. All interested persons are invited to attend. For those unable to attend in person, access to the meeting will be available via webcast.

Commission staff is hereby supplementing the September 17, 2019 notice with the agenda for discussion. During the meeting, Commission staff and EQR users will discuss potential improvements to the EQR program and the EQR filing process. While discussion topics are outlined in the agenda, suggestions for additional discussion topics may be emailed to EQRUsersGroup@ferc.gov.

Please note that matters pending before the Commission and subject to ex parte limitations cannot be discussed at this meeting.

Due to the nature of the discussion, those interested in participating are encouraged to attend in person. All interested persons (whether attending in person, via webcast, or telephone) are asked to register http://www.ferc.gov/whats-new/registration/12-04-19-form.asp. There is no registration fee. Anyone with internet access can listen to the meeting by navigating to the FERC website Calendar of Events (https://www.ferc.gov/EventCalendar/EventsList.aspx?View=listview), locating the EQR Users Group Meeting on the Calendar, and clicking on the link to the Event Details and selecting webcast. The webcast will allow persons to listen to the meeting. In the event you would also like to participate in the meeting dialogue by phone, please select the telephone option when registering.

Commission conferences are accessible under section 508 of the Rehabilitation Act of 1973. For accessibility accommodations, please send an email to accessibility@ferc.gov or call toll free 1-866-208-3372 (voice) or 202-502-8659 (TTY), or send a FAX to 202-208-2106 with the required accommodations.

For more information about the EQR Users Group meeting, please contact Jeff Sanders of the Commission's Office of Enforcement at (202) 502-6455 or send an email to EQRUsersGroup@ferc.gov.

Dated: October 25, 2019.
Kimberly D. Bose,
Secretary.

[FR Doc. 2019-23840 Filed 10-31-19; 8:45 am]

BILLING CODE 6717-01-P